FEDERAL EMERGENCY MANAGEMENT AGENCY

44 CFR Part 65

[Docket No. FEMA-D-7525]

Changes in Flood Elevation Determinations

AGENCY: Federal Emergency Management Agency, FEMA

ACTION: Interim rule.

SUMMARY: This interim rule lists communities where modification of the base (1% annual change) flood elevations is appropriate because of new scientific or technical data. New flood insurance premium rates will be calculated from the modified base flood elevations for new buildings and their contents.

DATES: These modified base flood elevations are currently in effect on the dates listed in the table and revise the Flood Insurance Rate Map(s) (FIRMs) in effect prior to this determination for each listed community.

From the date of the second publication of these changes in a newspaper of local circulation, any person has ninety (90) days in which to request through the community that the Acting Administrator reconsiders the changes. The modified elevations may be changed during the 90-day period.

ADDRESSES: The modified base flood elevations for each community are available for inspection at the office of the Chief Executive Officer of each community. The respective addresses are listed in the following table.

FOR FURTHER INFORMATION CONTACT: Matthew B. Miller, P.E., Chief, Hazards Study Branch, Federal Insurance and Mitigation Administration, Federal Emergency Management Agency, 500 C Street SW., Washington, DC 20472, (202) 646-3461, or (email) matt.miller@fema.gov.

SUPPLEMENTARY INFORMATION: The modified base flood elevations are not listed for each community in this interim rule. However, the address of the Chief Executive Officer of the community where the modified base flood elevation determinations are available for inspection is provided.

Any request for reconsideration must be based upon knowledge of changed conditions, or upon new scientific or technical data.

The modifications are made pursuant to Section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified base flood elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their flood-plain management requirements. The community may at any time enact stricter requirements of its own, or pursuant to policies established by other Federal, state or regional entities.

The changes in base flood elevations are in accordance with 44 CFR 65.4.

National Environmental Policy Act This rule is categorically excluded from the requirements of 44 CFR Part 10, Environmental Consideration. No environmental impact assessment has been prepared.

Regulatory Flexibility Act The Acting Administrator, Federal Insurance and Mitigation Administration, certifies that this rule is exempt from the requirements of the Regulatory Flexibility Act because modified base flood elevations are required by the Flood Disaster Protection Act of 1973, 42 U.S.C. 4105, and are required to maintain community eligibility in the National Flood Insurance Program. No regulatory flexibility analysis has been prepared.

Regulatory Classification. This interim rule is not a significant regulatory action under the criteria of Section 3(f) of Executive Order 12866 of September 30, 1993, Regulatory Planning and Review, 58 FR 51735.

Executive Order 12612, Federalism This rule involves no policies that have federalism implications under Executive Order 12612, Federalism, dated October 26, 1987.

Executive Order 12778, Civil Justice Reform This rule meets the applicable standards of Section 2(b)(2) of Executive Order 12778.

List of Subjects in 44 CFR Part 65

Flood insurance, Floodplains, Reporting and recordkeeping requirements

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Alabama:
Lee | City of Auburn | May 28, 2002, June 4, 2002, Opelika-Auburn News | The Honorable Bill Ham, Jr, Mayor of the City of Auburn, 144 Tichenor Avenue, Auburn, Alabama 36830 | May 20, 2002 | 010144 E
Jefferson | Unincorporated Areas | May 17, 2002, May 22, 2002, The Birmingham News | Mr. Gary White, President of the Jefferson County Commission, Courthouse, Room 680A, 716 Richard Arrington Jr. Boulevard North, Birmingham, Alabama 35203 | Aug. 21, 2002 | 010217 E
Mobile | Unincorporated Areas | Apr. 17, 2002, Apr. 24, 2002, Mobile Register | Mr. Joe W. Ruffer, Director of Public Works, Mobile Government Plaza, 205 Government Street, Mobile, Alabama 36604-1600 | Apr. 10, 2002 | 015008 J
Arizona: Maricopa | City of Tempe | May 1, 2002, May 8, 2002, Arizona Republic | The Honorable Neil G. Giuliano, Mayor of the City of Tempe, P.O. Box 5002, Tempe, Arizona 85280 | Aug. 6, 2002 | 040054 G&F
Connecticut:
Hartford | Town of Berlin | Apr. 26, 2002, May 3, 2002, The Herald | Ms. Bonnie Therrien, Manager of the Town of Berlin, Town Hall, 240 Kensington Road, Berlin, Connecticut 06037 | Apr. 15, 2002 | 090022 D
Fairfield | City of Stamford | May 10, 2002, May 17, 2002, The Stamford Advocate | The Honorable Dannel P. Malloy, Mayor of the City of Stamford, 888 Washington Boulevard, 10th Floor Government Center, Stamford, Connecticut 06904 | Apr. 23, 2002 | 090015 C&D
Florida
Volusia | City of Ormond Beach | Mar. 27, 2002, Apr. 3, 2002, News-Journal | The Honorable Carl Persis, Mayor of the City of Ormond Beach, P.O. Box 277, Ormond Beach, Florida 32175-0277 | Apr. 16, 2002 | 125136 G
Osceola | Unincorporated Areas | Feb. 8, 2002, Feb. 15, 2002, Osceola Sentinel | Mr. Robert Fernandez, Osceola County Manager, 1 Courthouse Square, Suite 4700, Kissimmee, Florida 34741-5488 | Dec. 7, 2001 | 120189 F
Polk | Unincorporated Areas | May 21, 2002, May 28, 2002, The Ledger | Mr. Kim W. Keene, Polk County Manager, 330 West Church Street, P.O. Box 9005, Drawer CA01, Bartow, Florida 33831-9005 | May 14, 2002 | 120261 F
Georgia: Fulton | City of Alpharetta | Mar. 28, 2002, Apr. 4, 2002, The Revue & News | The Honorable Charles E. Martin, Mayor of the City of Alpharetta, City Hall, Two South Main Street, Alpharetta, Georgia 30004 | Mar. 21, 2002 | 130084 D
North Carolina:
Wake | Town of Cary | Apr. 23, 2002, Apr. 30, 2002, The News and Obvserver | The Honorable Glenn Lang, Mayor of the Town of Cary, P.O. Box 8005, Cary, North Carolina 27512 | July 30, 2002 | 370238 D
Durham | City of Durham | June 4, 2002, June 11, 2002, The Herald-Sun | The Honorable William V. Bell, Mayor of the City of Durham, 101 City Hall Plaza, Durham, North Carolina 27701 | Sept. 10, 2002 | 370086 G
Durham | Unincorporated Areas | June 4, 2002, June 11, 2002, The Herald-Sun | Mr. Michael M. Ruffin, Durham County Manager, 200 East Main Street, 2nd Floor, Durham, North Carolina 27701 | Sept. 10, 2002 | 370085 G
Lee | City of Sanford | Apr. 18, 2002, Apr. 25, 2002, Sanford Herald | The Honorable Winston C. Hestor, Mayor of the City of Sanford, P.O. Box 3729, Sanford, North Carolina 27331-3729 | July 25, 2002 | 370143 B
Pennsylvania: Montgomery | Borough of Emsworth | May 29, 2002, June 5, 2002, The Citizen | The Honorable Keith Johnston, Mayor of the Borough of Emsworth, 171 Center Avenue, Pittsburgh, Pennsylvania 15202 | Sept. 4, 2002 | 420034 D
Puerto Rico | Commonwealth | May 31, 2002, June 7, 2002, The San Juan Star | The Honorable Sila Maria Calderon, Governor of the Commonwealth of Puerto Rico, Office of the Governor, P.O. Box 9020082, San Juan, Puerto Rico 00901 | Sept. 6, 2002 | 720000 E
South Carolina: Lexington | Unincorporated Areas | Apr. 19, 2002, Apr. 26, 2002, The State | Mr. Bill Banning, Council Chairman, 212 South Lake Drive, Lexington, South Carolina 29072 | July 26, 2002 | 450129 G
Tennessee:
Davidson | Metropolitan Government of Nashville | Feb. 8, 2002, Feb. 15, 2002, The Tennessean | The Honorable Bill Purcell, Mayor of the Metropolitan Government of Nashville and Davidson County, 107 Metropolitan Courthouse, Nashville, Tennessee 37201 | May 17, 2002 | 470040 F
Davidson | City of Oak Hill | Feb. 8, 2002, Feb. 15, 2002, The Tennessean | The Honorable Warren Wilkerson, Mayor of the City of Oak Hill, 5548 Franklin Road, Suite 102, Nashville, Tennessee 37220 | May 17, 2002 | 470351 F
Virginia:
Augusta | Unincorporated Areas | May 28, 2002, June 4, 2002 The Daily News Record | Mr. Patrick J. Coffield, Augusta County Administrator, P.O. Box 590, Verona, Virginia 24482-0590 | Sept. 3, 2002 | 510013 B
Loudoun | Town of Leesburg | May 15, 2002, May 22, 2002, Loudoun Times Mirror | The Honorable B.J. Webb, Mayor of the Town of Leesburg, 25 West Market Street, P.O. Box 88, Leesburg, Virginia 20178 | Aug. 21, 2002 | 510091 D
Loudoun | Unincorporated Areas | May 15, 2002, May 22, 2002, Loudoun Times Mirror | Mr. Kirby Bowers, Loudoun County Administrator, 1 Harrison Street, SE., 5th Floor, P.O. Box 7000, Leesburg, Virginia 20177-7000 | Aug. 21, 2002 | 510090 D
Loudoun | Unincorporated Areas | May 22, 2002, May 29, 2002, Loudoun Times Mirror | Mr. Kirby Bowers, Loudoun County Administrator, 1 Harrison Street, SE., 5th Floor, P.O. Box 7000, Leesburg, Virginia 20177-7000 | May 6, 2002 | 510090 D

(Catalog of Federal Domestic Assistance No. 83.100, “Flood Insurance”)
Dated: July 2, 2002.
Robert F. Shea,
Acting Administrator, Federal Insurance and Mitigation Administration.

[FR Doc. 02-17278 Filed 7-12-02; 8:45 am]

BILLING CODE 6718-04-M